DEPARTMENT OF COMMERCE

National Oceanic and Atmospheric Administration

Solicitation for Applications for Advisory Councils Established Pursuant to the National Marine Sanctuaries Act and Executive Order

AGENCY: Office of National Marine Sanctuaries (ONMS), National Ocean Service (NOS), National Oceanic and Atmospheric Administration (NOAA), Department of Commerce (DOC).

ACTION: Notice of solicitation.

SUMMARY: Notice is hereby given that ONMS will solicit applications to fill non-governmental seats on its 17 established national marine sanctuary advisory councils and the Northwestern Hawaiian Islands Coral Reef Ecosystem Reserve Advisory Council (advisory councils), under the National Marine Sanctuaries Act and the Northwestern Hawaiian Islands Coral Reef Ecosystem Reserve Executive Order, respectively. Note, the list of 18 established advisory councils in the Contact Information for Each Site section includes the advisory council established for the Proposed Lake Ontario National Marine Sanctuary and the Proposed Hudson Canyon National Marine Sanctuary. Vacant seats, including positions (i.e., primary and alternate), for each of the advisory councils will be advertised differently at each site in accordance with the information provided in this notice. This notice contains web page links and contact information for each site, as well as additional resources on advisory council vacancies and the application process.

DATES: Please visit individual site web pages, or reach out to a site as identified in this notice's SUPPLEMENTARY INFORMATION section on Contact Information for Each Site, regarding the timing and advertisement of vacant seats, including positions (i.e., primary or alternate), for each of the advisory councils. Applications will only be accepted in response to current, open vacancies and in accordance with the deadlines and instructions included on each site's website.

ADDRESSES: Vacancies and applications are specific to each site's advisory council. As such, questions about a specific council or vacancy, including questions about advisory council applications, should be directed to a site. Contact Information for Each Site is contained in the SUPPLEMENTARY INFORMATION section.

FOR FURTHER INFORMATION CONTACT: For further information on a particular advisory council or available seats, please contact the site as identified in this notice's SUPPLEMENTARY INFORMATION section on Contact Information for Each Site, below. For general inquiries related to this notice or ONMS advisory councils established pursuant to the National Marine Sanctuaries Act or Executive Order 13178, contact Sage Riddick, Office of National Marine Sanctuaries Protected Area Policy Division, sage.riddick@noaa.gov, or at 240-560-3365.

SUPPLEMENTARY INFORMATION: Section 315 of the National Marine Sanctuaries Act (NMSA) (16 U.S.C. 1445a) allows the Secretary of Commerce to establish advisory councils to advise and make recommendations regarding the designation and management of national marine sanctuaries. Executive Order 13178 similarly established a Coral Reef Ecosystem Reserve Council pursuant to the NMSA for the Northwestern Hawaiian Islands Coral Reef Ecosystem Reserve. In this SUPPLEMENTARY INFORMATION section, NOAA provides details regarding the Office of National Marine Sanctuaries, the role of advisory councils, and contact information for each site.

Office of National Marine Sanctuaries (ONMS)

ONMS serves as the trustee for a network of underwater parks encompassing more than 620,000 square miles of marine and Great Lakes waters from Washington State to the Florida Keys, and from Lake Huron to American Samoa. The network includes a system of 15 national marine sanctuaries and Papahānaumokuākea and Rose Atoll marine national monuments. National marine sanctuaries protect our nation's most vital coastal and marine natural and cultural resources, and through active research, management, and public engagement, sustain healthy environments that are the foundation for thriving communities and stable economies.

One of the many ways ONMS ensures public participation in the designation and management of national marine sanctuaries is through the formation of advisory councils. Advisory councils are community-based advisory groups established to provide advice and recommendations to ONMS on issues including management, science, service, and stewardship; and to serve as liaisons between their constituents in the community and the site. Pursuant to section 315(a) of the National Marine Sanctuaries Act, 16 U.S.C. 1445A(a), advisory councils are exempt from the requirements of the Federal Advisory Committee Act. Additional information on ONMS and its advisory councils can be found at http://sanctuaries.noaa.gov.

Advisory Council Membership

Under section 315 of the NMSA, advisory council members may be appointed from among: (1) Persons employed by Federal or State agencies with expertise in management of natural resources; (2) members of relevant regional fishery management councils; and (3) representatives of local user groups, conservation and other public interest organizations, scientific organizations, educational organizations, or others interested in the protection and multiple use management of sanctuary resources. For the Northwestern Hawaiian Islands Coral Reef Ecosystem Reserve Advisory Council, section 5(f) of Executive Order 13178 (as amended by Executive Order 13196) specifically identifies member and representative categories.

The charter for each advisory council defines the number and type of seats and positions on the council; however, as a general matter, available seats could include: Conservation, education, research, fishing, whale watching, diving and other recreational activities, boating and shipping, tourism, harbors and ports, maritime business, agriculture, maritime heritage, and citizen-at-large.

For each of the advisory councils, applicants are chosen based upon their particular experience in relation to the seat for which they are applying; community and professional affiliations; views regarding the protection and management of marine or Great Lakes resources; and possibly the length of residence in the area affected by the site. Applicants chosen as members or alternates should expect to serve two- or three-year terms, pursuant to the charter of the specific national marine sanctuary advisory council or Northwestern Hawaiian Islands Coral Reef Ecosystem Reserve Advisory Council. More information on advisory council membership and processes, and materials related to the purpose, policies, and operational requirements for advisory councils can be found in the charter for a particular advisory council (http://sanctuaries.noaa.gov/management/ac/council_charters.html) and the National Marine Sanctuary Advisory Council Implementation Handbook (https://farallones.noaa.gov/manage/sac_handbook.html).

Contact Information for Each Site

• Channel Islands National Marine Sanctuary Advisory Council: Channel Islands National Marine Sanctuary, University of California, Santa Barbara, Ocean Science Education Building 514, MC 6155, Santa Barbara, CA 93106; 805-893-6437; https://channelislands.noaa.gov/sac/council_news.html.

• Cordell Bank National Marine Sanctuary Advisory Council: Cordell Bank National Marine Sanctuary, P.O. Box 159, Olema, CA 94950; 415-464-5260; http://cordellbank.noaa.gov/council/applicants.html.

• Florida Keys National Marine Sanctuary Advisory Council: Florida Keys National Marine Sanctuary, 33 East Quay Road, Key West, FL 33040; 305-809-4700; https://floridakeys.noaa.gov/sac/recruitment.html.

• Flower Garden Banks National Marine Sanctuary Advisory Council: Flower Garden Banks National Marine Sanctuary, 4700 Avenue U, Building 216, Galveston, TX 77551; 409-621-5151; http://flowergarden.noaa.gov/advisorycouncil/recruitment.html.

• Gray's Reef National Marine Sanctuary Advisory Council: Gray's Reef National Marine Sanctuary, 10 Ocean Science Circle, Savannah, GA 31411; 912-598-2345; http://graysreef.noaa.gov/management/sac/council_news.html.

• Greater Farallones National Marine Sanctuary Advisory Council: Greater Farallones National Marine Sanctuary, 991 Marine Drive, The Presidio, San Francisco, CA 94129; 415-561-6622; https://farallones.noaa.gov/manage/sac_recruitment.html.

• Hawaiian Islands Humpback Whale National Marine Sanctuary Advisory Council: Hawaiian Islands Humpback Whale National Marine Sanctuary, NOAA Inouye Regional Center, NOS/ONMS/HIHWNMS, 1845 Wasp Boulevard, Building 176, Honolulu, HI 96818; 808-879-2818; https://hawaiihumpbackwhale.noaa.gov/management/advisory/recruitment.html.

• Mallows Bay—Potomac River National Marine Sanctuary Advisory Council: Mallows Bay—Potomac River National Marine Sanctuary, NOAA Chesapeake Bay Office, 200 Harry S. Truman Parkway, Room 460, Annapolis, MD 21401; (240) 460-1978; https://sanctuaries.noaa.gov/mallows-potomac/involved/recruitment.html.

• Monitor National Marine Sanctuary Advisory Council: Monitor National Marine Sanctuary, 100 Museum Drive, Newport News, VA 23606; 757-599-3122; https://monitor.noaa.gov/advisory/news.html.

• Monterey Bay National Marine Sanctuary Advisory Council: Monterey Bay National Marine Sanctuary, 99 Pacific Street, Building 455A, Monterey, CA 93940; 831-647-4201; http://montereybay.noaa.gov/sac/recruit.html.

• National Marine Sanctuary of American Sāmoa Advisory Council: National Marine Sanctuary of American Sāmoa, Tauese P.F. Sunia Ocean Center, P.O. Box 4318, Pago Pago, American Sāmoa 96799; 684-633-6500; https://americansamoa.noaa.gov/council/recruitment/.

• Northwestern Hawaiian Islands Coral Reef Ecosystem Reserve Advisory Council: NOAA Inouye Regional Center, NOS/ONMS/PMNM, 1845 Wasp Boulevard, Building 176, Honolulu, HI 96818; 808-725-5800; http://www.papahanaumokuakea.gov/new-about/council/apply/.

• Olympic Coast National Marine Sanctuary Advisory Council: Olympic Coast National Marine Sanctuary, 115 East Railroad Avenue, Suite 301, Port Angeles, WA 98362; 360-457-6622; http://olympiccoast.noaa.gov/involved/sac/recruitment.html.

• Proposed Lake Ontario Sanctuary Advisory Council; NOAA Office of National Marine Sanctuaries, 4840 South State Road, Ann Arbor, MI 48108; 734-741-2270; https://sanctuaries.noaa.gov/lake-ontario/advisory/members.html.

• Proposed Hudson Canyon Sanctuary Advisory Council; NOAA Office of National Marine Sanctuaries, 4840 South State Road, Ann Arbor, MI 48108; 734-741-2270; https://sanctuaries.noaa.gov/hudson-canyon/involved/advisory-council.html.

• Stellwagen Bank National Marine Sanctuary Advisory Council: Stellwagen Bank National Marine Sanctuary, 175 Edward Foster Road, Scituate, MA 02066; 781-545-8026; http://stellwagen.noaa.gov/management/sac/recruitment.html.

• Thunder Bay National Marine Sanctuary Advisory Council: Thunder Bay National Marine Sanctuary, 500 West Fletcher Street, Alpena, MI 49707; 989-356-8805; https://thunderbay.noaa.gov/involved/recruitment.html.

• Wisconsin Shipwreck Coast National Marine Sanctuary Advisory Council, University of Wisconsin Green-Bay, Sheboygan Campus, One University Drive, Sheboygan, WI 53081; 989-766-3359; https://sanctuaries.noaa.gov/wisconsin/involved/.

Privacy Act Statement

Authority. The collection of information concerning the solicitation for applications for sanctuary advisory councils is authorized under the National Marine Sanctuaries Act, 16 U.S.C. 1445a, and Executive Order 13178, and in accordance with the Privacy Act of 1974, as amended, (Privacy Act) 5 U.S.C. 552a.

Purposes. The collection of names, contact information, professional information, qualifications, and answers to the application questions is required in order for the Office of National Marine Sanctuaries to evaluate and appoint members to the sanctuary advisory councils. The information collected will be reviewed by NOAA employees, and may also be reviewed by current sanctuary advisory council members as part of the evaluation process.

Routine Uses. NOAA will use the application information for the purposes set forth above. The Privacy Act authorizes disclosure of the collected information for the following purposes: to NOAA staff for work-related purposes; for other purposes as set forth in the Privacy Act; and for routine uses published in one or more of the following Privacy Act System of Records Notices, as applicable: COMMERCE/DEPT-11, Candidates for Membership, Members, and Former Members of Department of Commerce Advisory Committees, available at https://www.commerce.gov/opog/privacy/SORN/SORN-DEPT-11; COMMERCE/DEPT-18, Employees Personnel Files Not Covered by Notices of Other Agencies, available at https://www.commerce.gov/opog/privacy/SORN/SORN-DEPT-18; and OPM/GOVT-1, General Personnel Records, available at https://www.opm.gov/information-management/privacy-policy/sorn/opm-sorn-govt-1-general-personnel-records.pdf, which cover certain records regarding Federal employees and may also cover records of individuals who are not Federal employees who, through their service on a sanctuary advisory council, may be considered as volunteers providing gratuitous services to the agency without compensation; and, for individuals who are also members of a Regional Fishery Management Council, COMMERCE/NOAA-13, Personnel, Payroll, Travel, and Attendance Records of the Regional Fishery Management Councils.

Effects of Not Providing Information. Providing the application information is voluntary; however, if the information is not provided, the individual will not be considered for appointment as a member of a sanctuary advisory council.

Consent. By submitting an application to the Office of National Marine Sanctuaries for appointment to a sanctuary advisory council, you are consenting to the use and disclosure of the information for the purposes and routine uses described above. However, if you prefer that your application be reviewed by NOAA employees only and not disclosed to current council members as part of the evaluation process, please contact the sanctuary advisory council coordinator to request internal review only, which will not result in any disadvantage or impact regarding your candidacy, or for any questions regarding this Privacy Act Statement.

Paperwork Reduction Act

ONMS has a valid Office of Management and Budget (OMB) control number (0648-0397) for the collection of public information related to the processing of ONMS national marine sanctuary advisory council applications across the National Marine Sanctuary System. Soliciting applications for sanctuary advisory councils fits within the estimated reporting burden under that control number. See https://www.reginfo.gov/public/do/PRASearch (Enter Control Number 0648-0397). Therefore, ONMS will not request an update to the reporting burden certified for OMB control number 0648-0397.

Send comments regarding this burden estimate, or any other aspect of this data collection, including suggestions for reducing the burden, to: Office of National Marine Sanctuaries, 1305 East West Highway, N/NMS, Silver Spring, Maryland 20910.

Notwithstanding any other provisions of the law, no person is required to respond to, nor shall any person be subject to a penalty for failure to comply with a collection of information subject to the requirements of the Paperwork Reduction Act (PRA), 44 U.S.C. 3501 et seq., unless that collection of information displays a currently valid Office of Management and Budget (OMB) control number. The OMB control number is #0648-0397.

Authority: 16 U.S.C. 1431, et seq.

John Armor,
Director, Office of National Marine Sanctuaries, National Ocean Service, National Oceanic and Atmospheric Administration.

[FR Doc. 2024-11487 Filed 5-23-24; 8:45 am]

BILLING CODE 3510-NK-P